DEPARTMENT OF THE INTERIOR

Bureau of Indian Affairs

[201A2100DD/AAKC001030/A0A501010.999900253G]

Energy and Mineral Development Program (EMDP); Solicitation of Proposals

AGENCY: Bureau of Indian Affairs, Interior.

ACTION: Notice.

SUMMARY: The Office of Indian Energy and Economic Development (IEED), through its Division of Energy and Mineral Development (DEMD), is soliciting grant proposals from Tribes and Tribal Energy Development Organizations for technical assistance funding to hire consultants to identify, evaluate or assess the market for energy or mineral resources that a Tribe will process, use, or develop.

DATES: Applications will be accepted until 5 p.m. Mountain Daylight Time on December 2, 2020].

ADDRESSES: Email applications to ieedgrants@bia.gov in accordance with the directions at Step 4 of this notice.

FOR FURTHER INFORMATION CONTACT: Ms. Winter Jojola-Talburt, Deputy Chief, Division of Energy and Mineral Development, 13922 Denver West Pkwy., Suite 200, Lakewood, CO 80401; telephone (720) 207-8063; email: winter.jojola-talburt@bia.gov.

SUPPLEMENTARY INFORMATION:

I. General Information

II. Number of Projects Funded

III. Background

IV. Eligibility for Funding

V. Who May Perform Feasibility Studies Funded by EMDP Grants

VI. Applicant Procurement Procedures

VII. Limitations

VIII. EMDP Application Guidance

IX. Review and Selection Process

X. Evaluation Criteria

XI. Transfer of Funds

XII. Reporting Requirements for Award Recipients

XIII. Conflicts of Interest

XIV. Questions and Requests for IEED Assistance

XV. Separate Document(s)

XVI. Paperwork Reduction Act

XVII. Authority

I. General Information

Award Ceiling: $2,500,000.

Award Floor: $10,000.

CFDA Number: 15.038.

Cost Sharing or Matching Requirement: No.

Number of Awards: 25 to 30.

Category: Minerals and Mining on Indian Land.

II. Number of Projects Funded

DEMD anticipates award of approximately twenty-five (25) to thirty (30) grants under this announcement ranging in value from approximately ten thousand dollars ($10,000) to two million five hundred thousand dollars ($2,500,000). The program can fund projects only one year at a time. DEMD will use a competitive evaluation process based on criteria described in the Review and Selection Process section at section IX of this notice.

III. Background

The Office of the Assistant Secretary—Indian Affairs, through IEED, is soliciting proposals from Indian Tribes, as described in Section IV of this notice, for projects that conduct resource inventories and assessments, feasibility studies, or other pre-development studies necessary to process, use and develop energy and mineral resources. These resources and their uses include, but are not limited to, biomass (woody and waste) for heat or electricity; transportation fuels; hydroelectric, solar, or wind generation; geothermal heating or electricity production; district heating; other forms of distributed energy generation; oil, natural gas, geothermal, and helium; sand and gravel, coal, precious minerals, and base minerals (lead, copper, zinc, etc.).

EMDP projects may include, but are not limited to:

• Initial resource exploration;

• Defining potential targets for development;

• Performing a market analysis to establish production/demand for a commodity;

• Performing economic evaluation and analysis of the resource;

• Baseline studies related to energy and mineral projects; and

• Other pre-development studies necessary to promote the use and development of energy and mineral resources.

The IEED administers this program through DEMD.

These grants will be funded under a non-recurring appropriation of the BIA budget. Congress appropriates funds on a year-to-year basis. Thus, while some projects may extend over several years, funding for successive years depends on each fiscal year's appropriations.

The funding periods and amounts referenced in this solicitation are subject to the availability of funds at the time of award, as well as the Department of the Interior (DOI) and Indian Affairs priorities at the time of the award. Neither DOI nor Indian Affairs will be held responsible for proposal or application preparation costs. Publication of this solicitation does not obligate DOI or Indian Affairs to award any specific grant or to obligate all or any part of available funds. Future funding is subject to the availability of appropriations and cannot be guaranteed. DOI or Indian Affairs may cancel or withdraw this solicitation at any time.

IV. Eligibility for Funding

Only Indian Tribes, as defined at 25 U.S.C. 5304(e), and Tribal Energy Development Organizations (TEDOs), as defined at 25 U.S.C 3501(12), are eligible for EMDP grants. Under the statutory definition, Indian Tribes means any Indian tribe, band, nation, or other organized group or community, including any Alaska Native village or regional or village corporation as defined in or established pursuant to the Alaska Native Claims Settlement Act, 43 U.S.C. 1601 et seq., which is recognized as eligible for the special programs and services provided by the United States to Indians because of their status as Indians.

TEDOs are: (1) Any enterprise, partnership, consortium, corporation, or other type of business organization that is engaged in the development of energy resources and is wholly owned by an Indian Tribe (including an organization incorporated under 25 U.S.C. 5124 or 5203); and (2) any organization of two or more entities, at least one of which is an Indian Tribe, that has the written consent of the governing bodies of all Indian Tribes participating in the organization to apply for a grant, loan, or other assistance under 25 U.S.C. 3502 or to enter into a lease or business agreement with, or acquire a right-of-way from, an Indian Tribe pursuant to 25 U.S.C. 3504(a)(2)(A)(ii) or (b)(2)(B).

Eligible applicants will be referred to as “Tribes” and “TEDOs” throughout this notice.

EMDP grants may only fund projects occurring on Indian land. The term “Indian land” means:

• Any land located within the boundaries of an Indian reservation, pueblo, or rancheria;

• Any land not located within the boundaries of an Indian reservation, pueblo, or rancheria, the title to which is held: (i) In trust by the United States for the benefit of an Indian Tribe or an individual Indian; (ii) by an Indian Tribe or an individual Indian, subject to restriction against alienation under laws of the United States; or (iii) by a dependent Indian community; and

• Land that is owned by an Indian Tribe and was conveyed by the United States to a Native Corporation pursuant to the Alaska Native Claims Settlement Act (43 U.S.C. 1601 et seq.), or that was conveyed by the United States to a Native Corporation in exchange for such land. See 25 U.S.C. 3501(2).

V. Who May Perform Feasibility Studies Funded by EMDP Grants

The applicant determines who will conduct its feasibility study. An applicant has several choices, including but not limited to:

• TEDOs;

• Universities and colleges;

• Private consulting firms; or

• Non-academic, non-profit entities.

VI. Applicant Procurement Procedures

The applicant is subject to the procurement standards in 2 CFR 200.318 through 200.326. In accordance with 2 CFR 200.318, an applicant must use its own documented procurement procedures which reflect Tribal laws and regulations, provided that the procurements conform to applicable Federal law and standards identified in 2 CFR part 200.

VII. Limitations

EMDP grant funding must be expended in accordance with applicable statutory and regulatory requirements, including 2 CFR part 200. As part of the grant application review process, DEMD may conduct a review of an applicant's prior IEED grant awards(s).

Applicants that are currently under BIA sanction Level 2 or higher resulting from non-compliance with the Single Audit Act are ineligible for an EMDP award. Applicants at Sanction Level 1 will be considered for funding.

An applicant may submit more than one grant application for multiple, distinct projects. For example, an applicant may submit one application to identify sand and gravel resources and another application to identify wind energy resources; however, an applicant cannot combine these two subjects into one application. Each project requires its own stand-alone project narrative, budget, designated Tribal project lead, and verification of eligibility, and will be evaluated based on its own merit.

EMDP awards may not be used for:

• Projects not occurring on Indian land;

• Establishing or operating a Tribal office, and/or purchase of office equipment;

• Salaries or fringe benefits for Tribal employees, except for clearly defined technical related tasks. Salary requests must comply with the detailed budget components as described under Step 2—Budget (Mandatory Component 4);

• Indirect costs as defined in 2 CFR part 200 and overhead costs;

• Purchasing equipment such as computers, software, vehicles, field gear, anemometer (Met) towers, and the like, to perform pre-development activities. However, leasing these types of equipment for pre-development activities is permitted;

• Purchasing or leasing equipment to develop energy and mineral resources, such as solar panels, well drilling rigs, backhoes, bulldozers, cranes, trucks, etc. However, leasing this equipment for pre-development activities is allowable;

• Drilling wells for the commercial sale of hydrocarbons, geothermal resources, and other fluid or solid minerals. Funds may be used for testing, sampling, coring, or temperature surveys. DEMD will not fund the drilling, completion, or recompletion of an oil/gas well, but will fund the testing and/or sampling of a well if the data collected is deemed necessary to achieve the objective outlined in the grant proposal;

• Legal fees;

• Application fees associated with permitting unless it can be demonstrated that the task requiring a permit is an essential component of the grant;

• Academic research projects;

• Development of unproven technologies that are not warrantable;

• Training;

• Contracted negotiation fees;

• Purchase of data currently available at DEMD and accessible to applicants. Contact DEMD to verify data availability. DEMD will provide a Tribe with available data upon request;

• Studies directly related to meeting National Environmental Policy Act (NEPA) requirements for project development. However, the EMDP will support a preliminary environmental issue analysis used to evaluate project feasibility;

• Attending conventions, or travel to foreign countries. However, in some cases, domestic conventions that have relevance to the scope of the EMDP project will be allowed. This will be evaluated on a case-by-case basis and will require written justification within the proposal;

• Feasibility studies of broadband related projects that are eligible for funding under IEED's National Tribal Broadband Grant (NTBG) program;

• Businesses, development projects, or technologies that are addressed by IEED's Native American Business Development Institute (NABDI) grant program; or studies regarding legal infrastructure or energy regulatory structures addressed by IEED's Tribal Energy Development Capacity (TEDC) grant program; and

• Any other activities not authorized by the Tribal resolution or the grant award letter.

VIII. EMDP Application Guidance

All EMDP applicants must use the standard forms Application for Federal Assistance SF-424 and the Project Narrative Attachment Form. These forms can be found at www.grants.gov. A complete proposal must contain the six mandatory components as described below.

Step 1. Complete the Application for Federal Assistance SF-424

Instructions To Download the Application for Federal Assistance SF-424

1. Go to www.grants.gov.

2. Select the “forms” tab. This will open a page with a table titled “SF-424 FAMILY FORMS.”

3. Under the column “Agency Owner,” third row down, is listed, Grants.gov—Application for Federal Assistance SF-424.

4. Click on the blue PDF letters to download the three-page document.

Application for Federal Assistance SF-424 (Mandatory Component 1)

Within the Application for Federal Assistance SF-424, please complete the following sections:

• Item 8a. Applicant Information—Legal Name.

• Item 8b.

• Item 8c.

• Item 8d. Address.

• Item 8f. Name and contact information of person to be contacted on matters involving this application.

• Item 9. Select I: Indian/Native American Tribal Government (Federally Recognized).

• Item 11. CFDA Title box—Type in the numbers: 15.038.

• Item 12. Title box—Type in: IEED EMDP Grant.

• Item 15. Descriptive Title of Applicant's Project. Type in short description of proposal.

• Item 21. Read certification statement. Check “agree” box.

• Authorized Representative section: Complete all boxes except “signature of authorized representative.” Be sure to type in the Tribal leader's information. Be sure to include the Tribal leader's preferred title (e.g., Governor, President, Chairman).

Save the Application for Federal Assistance SF-424 and name the file using the following format: Tribal Name EMDP Grant Application SF-424.

Example for naming the SF-424 Application for Federal Assistance file: Pueblo of Laguna EMDP Grant Application SF-424.

Step 2. Prepare the Project Narrative, Budget, Critical Information Page, and Obtain a Tribal Resolution

Project Narrative (Mandatory Component 2)

The Project Narrative must not exceed 15 pages. At a minimum, it should include:

• Tribal Executive Summary, no longer than one page, that summarizes the proposed project, resource(s) to be utilized, long term goals and objectives of the Tribe, and total funding amount requested. The Tribal Executive Summary should be an authentic representation of the project intent, from the perspective of the Tribal applicant.

• Discussion on the economic viability of the project. Economic viability is the ability of the project to secure financing—whether from public, commercial, or concessional sources—while having a positive impact on society and the environment. Discussion should include: sources and uses of funds, revenue, expenses, job creation, return on investment, payback period, potential secondary markets, and other positive impacts. If an initial financial, economic, or business case analysis has not been completed please provide estimates based on comparable projects of similar scale.

• Discussion on project viability including, but not limited to: Reason(s) for the project; description of the anticipated outcomes that will result if the project were to be funded; whether the project is new or builds on previous work that is partially complete; how the project is phased, how long it is expected to take through completion, and what element the current project is intended to satisfy; the Tribe's motivation to develop the proposed energy or mineral resource(s), including any short and long term benefits to the Tribe; and potential barriers, including and not limited to environmental and cultural constraints for land development, etc.

• Scope of Work and Deliverables including: A clear and concise description of the tasks to be performed, in chronological order; a logical methodology for completing the task items; and a detailed description of all deliverable products the proposed EMDP project is to generate, including all technical data to be obtained during the study.

• Description of the consultant(s) and key personnel the applicant wishes to retain, including resumes, contact information, technical expertise, training, qualifications, and suitability to undertake the proposed scope of work. This information may be included as an attachment to the application and will not be counted towards the 15-page limitation.

Verification of Eligibility (Mandatory Component 3)

DEMD will only consider applications from Tribes and TEDOs for the use of carrying out projects to assess, evaluate, and promote the development of energy and mineral resources on Indian land.

The Verification of Proposal Eligibility must include the following:

• The full name, address, and telephone number of the Tribe or TEDO submitting the application, including:

a. The full name(s) of the Tribe(s) proposed to be served; and

b. A copy of the TEDO's charter, articles of incorporation, bylaws, or other organic documents showing that it meets the definition of a TEDO pursuant to 25 U.S.C. 3501(12).

• Narrative and documentation that the proposed project is located on Indian land (project location map, title status report, legal land descriptions, etc.).

Budget (Mandatory Component 4)

The budget should consist of a complete the SF 424a budget form and provide a budget narrative that clearly describes all major line item grant expenditures. The budget must identify the amount of grant funding requested and a comprehensive breakdown of all projected and anticipated expenditures, including contracted personnel fees; consulting fees (hourly or fixed); travel costs; data collection and analysis costs; and other relevant project expenses and their subcomponents.

• Travel costs should be itemized by airfare, vehicle rental, lodging, and per diem, based on the current Federal government per diem schedule.

• Data collection and analysis costs should be itemized in sufficient detail for the DEMD review committee to evaluate the charges.

• Other expenses may include computer rental, report generation, drafting, and advertising costs for a proposed project.

The budget narrative should correlate to the project scope of work and clearly break down the project into defined tasks with an associated budget line item for each task. Tasks and costs should include a justification in the budget narrative.

Critical Information Page (Mandatory Component 5)

Applicants must include a critical information page that includes:

• Project Manager's contact information;

• Data Universal Numbering System (DUNS) number;

• An active Automated Standard Application for Payment (ASAP) number;

• Counties where the project is located; and

• Congressional District number where the project is located.

Tribal Resolution (Mandatory Component 6)

Applicants must include as an attachment to their application a Tribal resolution authorizing the submission of a FY 2020 EMDP grant application. It must be signed by authorized Tribal representative(s). Tribal resolutions should not specify a starting date for the project to avoid complications in the event of funding delays or similar contingencies. The resolution must include:

• A description of the energy and mineral resource(s) to be studied;

• A statement confirming that the information provided in the Verification of Eligibility is accurate;

• A statement that the Tribe is willing to consider developing any potential energy and mineral resource discovered;

• A statement describing how the Tribe wishes to have the EMDP project performed (i.e., by whom);

• A statement to the effect that the Tribe will consider public release of information obtained from the EMDP project. Information does not include any detailed proprietary data or reports to any individual, private company, or government agency without the written consent of the Tribe; information, does, however, refer to that which may be suitable for press releases, or a presentation at a government or private meetings and conferences.

TEDO applicants are required to have an authorizing resolution(s) from each Tribe proposed to be served.

Step 3. Prepare the Project Narrative Attachment Form for Submission

Note: The Project Narrative Attachment Form is required to submit mandatory component 2 (Project Narrative), mandatory component 3 (Verification of Eligibility), mandatory component 4 (Budget), mandatory component 5 (Critical Information Page), and mandatory component 6 (Tribal Resolution).

Instructions To Download the Project Narrative Attachment Form

• Go to www.grants.gov.

• Select the “forms” tab. This will open a page within the table titled “SF-424 FAMILY FORMS.”

• Under the column “Agency Owner” three quarters down the table (52nd row), is listed, Grants.gov—Project Narrative Attachment Form.

• Click on the blue PDF letters to download the one page document.

When the applicant has successfully downloaded the Project Narrative Attachment Form, follow the next steps to upload documents:

• On the Project Narrative Attachment Form, click on the button titled “Add Project Narrative File.”

• Select the Project Narrative that you want to upload and click “open” to upload the file.

• On the same Project Narrative Attachment Form, you will find a grey button titled “Add Optional Project Narrative File.” Use this button to upload the Budget Narrative, Critical Information Page, and the Tribal Resolution as attachments.

When the applicant has completed uploading the Project Narrative and the attachments (Budget, Critical Information Page, and Tribal Resolution) to the Project Narrative Attachment Form, the applicant will save and name the file using the following format: Tribal Name EMDP Grant Attachments.

Example for naming the Project Narrative Attachment Form file: Pueblo of Laguna EMDP Grant Attachments.

Step 4. Submit the Completed EMDP Grant Proposal

Applicants must submit the Application for Federal Assistance SF-424 form and the Project Narrative Attachment Form in a single email to the email listed in the ADDRESSES section of this notice and:

• State “EMDP APPLICATION NARRATIVE AND SF-424” in the email subject line; and

• Include “Attention: Ms. Winter Jojola-Talburt, Deputy Chief, Division of Energy and Mineral Development, Office of Indian Energy and Economic Development” in the first line of the email.

Applications and mandatory attachments received and date-stamped after the time listed in the DATES section of this notice will not be considered by the Awarding Official. DEMD will accept applications at any time before the deadline and will send a notification of receipt to the return email address on the application package, along with a determination of whether the application is complete.

Incomplete Applications. Applications submitted without one or more of the six mandatory components described above will be returned to the applicant with an explanation. The applicant will then be allowed to correct any deficiencies and resubmit the proposal for consideration on or before the deadline. This option will not be available to an applicant once the deadline has passed.

IX. Review and Selection Process

Upon receiving an EMDP grant proposal, the DEMD will perform a preliminary review to determine if it contains the six (6) mandatory components. DEMD staff may return a proposal that it deems incomplete or ineligible. In appropriate circumstances it may retain the proposal but request additional information.

DEMD will also determine whether the proposed project duplicates or overlaps previous or currently funded DEMD technical assistance projects. DEMD may request further explanation of Tribes with outstanding project funds from previous years.

Any proposal that is received after the date and time in the DATES section of this notice will not be reviewed. If an application is not complete and the submission deadline has not passed, the applicant will be notified and given an opportunity to resubmit its application.

The DEMD Review Committee (Committee), comprised of IEED staff, staff from other Federal agencies, and subject matter experts, will evaluate the proposals against the ranking criteria. Proposals will be evaluated using the four ranking criteria listed below, with a maximum achievable total of 100 points.

Final award selections will be approved by the Assistant Secretary—Indian Affairs and the Associate Deputy Secretary, DOI. Applicants not selected for award will be notified in writing.

X. Evaluation Criteria

Tribal Executive Summary: 5 points. This criterion will evaluate that the summary of the project is succinct but inclusive of key aspects of the project, identifies the resource to be evaluated, includes summary of Tribal goals and objectives, and total funding requested. The Tribal Executive Summary should be an authentic representation of the project intent, from the perspective of the Tribal applicant. The DEMD review committee will view unfavorably proposals that show little evidence or scant regard for the applicant's unique circumstances.

Economic Viability: 30 points. This rating criterion gauges the project's capability to attract financing, either through conventional loans, grants, or investments. The narrative should therefore address the expected source(s) of funding for the project, the project's costs and revenues, and its return on investment, potential for job creation, payback period, and potential secondary markets.

Project Viability: 25 points. An application will be evaluated under this criterion on how clearly and convincingly it describes the project's anticipated outcomes. The application should therefore explain whether the project is new or builds on previous work that is partially complete. It should describe how the project is phased, how long it is expected to complete, and what need or goal the project is intended to satisfy or attain. It should also address the Tribe's motivation to develop the proposed energy and mineral resource, including short and long term benefits to the Tribe. And it should identify potential barriers, including but not limited to environmental and regulatory obstacles.

Scope of Work and Deliverables: 30 points. The Committee will rate the proposal on the extent to which it provides a clear and concise description of the tasks to be performed (in chronological order); demonstrates a logical methodology for completing project tasks; sufficiently describes all deliverable project products, including all technical data to be obtained during the study; and provides documentation that the consultants retained possess the requisite background and credentials to conduct the study.

Budget: 10 points. The application's budget narrative should clearly describe all major line-item expenditures that are proposed. The Committee will rank more highly proposals whose budget narratives correlate to a project's scope of work and clearly link each project task with a budget line-item and justification.

EMDP applications will be ranked using only these criteria (as described above)—

• Executive Summary: 5 points.

• Economic Viability: 30 points.

• Project Viability: 25 points.

• Scope of Work and Deliverables: 30 points.

• Budget: 10 points.

• Total: 100 points.

XI. Transfer of Funds

IEED's obligation under this solicitation is contingent on receipt of congressionally appropriated funds. No liability on the part of the U.S. Government for any payment may arise until funds are made available to the awarding officer for this grant and until the recipient receives notice of such availability, to be confirmed in writing by the grant officer.

All payments under this agreement will be made by electronic funds transfer through the ASAP. All award recipients are required to have a current and accurate Data Universal Numbering System (DUNS) number to receive funds. All payments will be deposited to the banking information designated by the applicant in the System for Award Management (SAM).

XII. Reporting Requirements for Award Recipients

The applicant must deliver all products and data required by the signed Grant Agreement for the proposed EMDP feasibility study project to DEMD within 30 days of the end of each quarter and 90 days after completion of the project.

DEMD requests that all reports be delivered in digital format. Reports and data can be provided in either Microsoft Word or Adobe Acrobat PDF format. Spreadsheet data can be provided in Microsoft Excel, Microsoft Access, or Adobe PDF formats. All vector figures and images should be converted to PDF format. Do not convert vector figures to raster images. If files are too large to be submitted through electronic mail, they may be copied to a CD, DVD or thumb drive and mailed. Furthermore, all geological data needs to be uploaded in commonly used software (PETRA, etc.).

Quarterly Reporting Requirements: Quarterly narrative and financial status reports are to be submitted to the DEMD project monitor named in the award letter for the project, as well as the Grant Officer listed in the grant award. The quarterly narrative report can be a one to two page summary of events, accomplishments, problems and results that took place during the quarter. The quarterly financial status report should be submitted as Federal Financial Report, SF 425, and include a listing of the funds expended during the quarter, how the funds were spent, and the amount remaining. Quarterly reports are due thirty (30) days after the end of a project's quarter.

Final Reporting Requirements: Final narrative and financial reports are to be submitted to the DEMD project monitor named in the award letter for the project, as well as the Grant Officer listed in the grant award. The final narrative report should include, as attachments, all other products generated by the EMDP studies. Products include all reports and technical data obtained during the study. The final financial status report should be submitted as Federal Financial Report, SF 425, and include a listing of the funds expended during the project, how the funds were spent, and any amount remaining. Final reports are due ninety (90) days following the end of the project's period of performance.

In addition, this funding opportunity and financial assistance award must adhere to the following provisions:

XIII. Conflicts of Interest

Applicability

• This section intends to ensure that non-Federal entities and their employees take appropriate steps to avoid conflicts of interest in their responsibilities under or with respect to Federal financial assistance agreements.

In the procurement of supplies, equipment, construction, and services by recipients and by sub-recipients, the conflict of interest provisions in 2 CFR 200.318 apply.

Requirements

• Non-Federal entities must avoid prohibited conflicts of interest, including any significant financial interests that could cause a reasonable person to question the recipient's ability to provide impartial, technically sound, and objective performance under or with respect to a Federal financial assistance agreement.

• In addition to any other prohibitions that may apply with respect to conflicts of interest, no key official of an actual or proposed recipient or sub-recipient, who is substantially involved in the proposal or project, may have been a former Federal employee who, within the last one (1) year, participated personally and substantially in the evaluation, award, or administration of an award with respect to that recipient or sub-recipient or in development of the requirement leading to the funding announcement.

• No actual or prospective recipient or sub-recipient may solicit, obtain, or use non-public information regarding the evaluation, award, administration of an award to that recipient or sub-recipient or the development of a Federal financial assistance opportunity that may be of competitive interest to that recipient or sub-recipient.

Notification

• Non-Federal entities, including applicants for financial assistance awards, must disclose in writing any conflict of interest to the DOI awarding agency or pass-through entity in accordance with 2 CFR 200.112, Conflicts of Interest.

• Recipients must establish internal controls that include, at a minimum, procedures to identify, disclose, and mitigate or eliminate identified conflicts of interest. The recipient is responsible for notifying the Financial Assistance Officer in writing of any conflicts of interest that may arise during the life of the award, including those that have been reported by sub-recipients.

• Restrictions on Lobbying. Non-Federal entities are strictly prohibited from using funds under this grant or cooperative agreement for lobbying activities and must provide the required certifications and disclosures pursuant to 43 CFR part 18 and 31 U.S.C. 1352.

• Review Procedures. The Financial Assistance Officer will examine each conflict of interest disclosure on the basis of its particular facts and the nature of the proposed grant or cooperative agreement, and will determine whether a significant potential conflict exists and, if it does, develop an appropriate means for resolving it.

• Enforcement. Failure to resolve conflicts of interest in a manner that satisfies the Government may be cause for termination of the award. Failure to make the required disclosures may result in any of the remedies described in 2 CFR 200.338, Remedies for Noncompliance, including suspension or debarment (see also 2 CFR part 180).

Data Availability

• Applicability. The DOI is committed to basing its decisions on the best available science and providing the American people with enough information to thoughtfully and substantively evaluate the data, methodology, and analysis used by the Department to inform its decisions.

• Use of Data. The regulations at 2 CFR 200.315 apply to data produced under a Federal award, including the provision that the Federal Government has the right to obtain, reproduce, publish, or otherwise use the data produced under a Federal award as well as authorize others to receive, reproduce, publish, or otherwise use such data for Federal purposes.

• Availability of Data. The recipient shall make the data produced under this award and any subaward(s) available to the Government for public release, consistent with applicable law, to allow meaningful third party evaluation and reproduction of the following:

○ The scientific data relied upon;

○ The analysis relied upon; and

○ The methodology, including models, used to gather and analyze data.

XIV. Questions and Requests for IEED Assistance

DEMD staff may provide technical consultation, upon written request by an applicant. The request must clearly identify the type of assistance sought. Technical consultation does not include funding to prepare a grant proposal, grant writing assistance, or pre-determinations as to the likelihood that a proposal will be awarded. The applicant is solely responsible for preparing its grant proposal. Technical consultation may include clarifying application requirements, confirming whether an applicant previously submitted the same or similar proposal, and registration information for SAM or ASAP.

DEMD also offers Tribes many in-house technical capabilities and services at no charge. These services include: Searching nearby reference materials for technical literature on previous investigations and work performed in and around reservations; providing well log interpretation, including correlation of formation tops, identification of producing horizons, and generation of cross-sections; supplying technical mapping capabilities, using data from well log formation tops and seismic data; providing contour mapping capabilities, including isopachs, calculated grids, color-fill plotting, and posting of surface features, wells, seismic lines, and legal boundaries; supplying three-dimensional modeling of mine plans; providing economic analysis and modeling for energy and mineral projects; supplying marketing studies for various energy and mineral commodities; and offering a preliminary opportunity assessment for a renewable energy resource.

XV. Separate Document(s)

• Application for Federal Assistance SF-424 Form.

• Project Narrative Attachment Form (This form includes the Project Narrative, Verification of Eligibility, Budget, Tribal Resolution, and Critical Information page).

XVI. Paperwork Reduction Act

The information collection requirements contained in this notice have been reviewed and approved by the Office of Management and Budget (OMB) under the Paperwork Reduction Act, 44 U.S.C. 3504(h). The OMB control number is 1076-0174. The authorization expires on November 30, 2022. An agency may not conduct or sponsor, and you are not required to respond to, any information collection that does not display a currently valid OMB Control Number.

XVII. Authority

This is a discretionary grant program authorized under the Snyder Act (25 U.S.C. 13), the Indian Mineral Development Act of 1982 (25 U.S.C. 2106), 25 U.S.C. 3502(a)(2)(B), and the Further Consolidated Appropriations Act 2020 (Pub. L. 116-94).

The Snyder Act authorizes the BIA to expend such moneys as Congress may appropriate for the benefit, care, and assistance of Indians for the purposes listed in the Act. EMDP grants facilitate two of the purposes listed in the Snyder Act: “General support and civilization, including education” and “industrial assistance and advancement.”

The Indian Mineral Development Act of 1982 requires that DOI ensure that, upon the request of any Indian Tribe or individual Indian and to the extent of his available resources, the Tribe or individual Indian will have available advice, assistance, and information during the negotiation of a Mineral Agreement. Under the Act, the Secretary may fulfill this responsibility by providing financial assistance to the Indian Tribe or individual Indian to secure independent assistance. EMDP grants are issued in response to requests from Tribes who seek advice, assistance, and information from independent sources regarding their mineral resources and who may contemplate entering into a Minerals Agreement with a production company.

25 U.S.C. 3502(a)(2)(B) authorizes the DOI to provide grants to Indian Tribes and Tribal energy development organizations for use in carrying out projects to promote the integration of energy resources, and to process, use, or develop those energy resources, on Indian land.

The Further Consolidated Appropriations Act 2020 authorizes the BIA to carry out the operation of Indian programs by direct expenditure, contracts, cooperative agreements, compacts, and grants, either directly or in cooperation with States and other organizations.

Tara Sweeney,
Assistant Secretary—Indian Affairs.

[FR Doc. 2020-19502 Filed 9-2-20; 8:45 am]

BILLING CODE 4337-15-P